DEPARTMENT OF ENERGY

Federal Energy Regulatory Commission

[Docket No. CP01-361-000]

Northwest Pipeline Corp.; Notice of Availability of the Environmental Assessment for the Proposed Grays Harbor Pipeline Project

March 4, 2002.

The staff of the Federal Energy Regulatory Commission (FERC or Commission) has prepared an environmental assessment (EA) on the natural gas pipeline facilities proposed by Northwest Pipeline Corporation (Northwest) in the above-referenced docket.

The EA was prepared to satisfy the requirements of the National Environmental Policy Act. The staff concludes that approval of the proposed project, with appropriate mitigating measures, would not constitute a major Federal action significantly affecting the quality of the human environment.

The EA assesses the potential environmental effects of the construction and operation of the proposed gas pipeline and aboveground facilities including:

• About 49.0 miles of a 20-inch-diameter pipeline in Thurston and Grays Harbor Counties, Washington, which would tie in with Northwest's existing mainline and mainline loop south of the Town of Ranier in Thurston County, Washington. The pipeline would extend from the interconnect with Northwest's existing system to the Satsop Combustion Turbine Project that is being constructed in the town of Satsop in Grays Harbor County, Washington.

• A meter station adjacent to the Satsop Project plant site at the end of the pipeline;

• Upgrades to the existing Tumwater Compressor Station in Thurston County, including the addition of a new compressor unit (rated 3,894 horsepower) and replacement of an existing backup generator with a 355 kilowatt backup generator; and

• Other aboveground facilities including two 20-inch-diameter mainline taps, a pig launcher, four 20-inch-diameter block valve assemblies; and a new antenna and radio repeater at the existing Capitol Peak radio site.

The purpose of the proposed facilities would be to supply natural gas to fully operate Duke Energy Grays Harbor LLC's Satsop Combustion Turbine Project in Satsop, Washington. The pipeline would have a design capacity of up to 161,500 dekatherms per day. The electricity produced by the Satsop Combustion Turbine Project would be sold in the wholesale electric market. A portion of the output would be delivered to Energy Northwest, and the balance would be delivered to Bonneville Power Authority to help satisfy current and projected power demand.

The EA has been placed in the public files of the FERC. A limited number of copies of the EA are available for distribution and public inspection at: Federal Energy Regulatory Commission, Public Reference and Files Maintenance Branch 888 First Street, N.E., Room 2A, Washington, DC 20426, (202) 208-1371.

Copies of the EA have been mailed to Federal, state and local agencies, public interest groups, interested individuals, newspapers, and parties to this proceeding.

Any person wishing to comment on the EA may do so. To ensure consideration prior to a Commission decision on the proposal, it is important that we receive your comments before the date specified below. Please carefully follow these instructions to ensure that your comments are received in time and properly recorded:

• Send two copies of your comments to: Secretary, Federal Energy Regulatory Commission 888 First St., N.E., Room 1A, Washington, DC 20426;

• Label one copy of the comments for the attention of the Office of Energy Projects (Gas Branch 2)

• Reference Docket No. CP01-361-000; and

• Mail your comments so that they will be received in Washington, DC on or before April 3, 2002.

Comments may also be filed electronically via the Internet in lieu of paper. See 18 CFR 385.2001(a)(1)(iii) and the instructions on the Commission's web site at http://www.ferc.gov under the “e-Filing” link and the link to the User's Guide. Before you can file comments you will need to create an account which can be created by clicking on “Login to File” and then “New User Account.”

Comments will be considered by the Commission but will not serve to make the commentor a party to the proceeding. Any person seeking to become a party to the proceeding must file a motion to intervene pursuant to Rule 214 of the Commission's Rules of Practice and Procedures (18 CFR 385.214).¹ Only intervenors have the right to seek rehearing of the Commission's decision.

¹ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your comments considered.

Additional information about the proposed project is available from the Commission's Office of External Affairs, at (202) 208-1088 or on the FERC Internet website (www.ferc.gov) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

Magalie R. Salas,
Secretary.

[FR Doc. 02-5694 Filed 3-8-02; 8:45 am]

BILLING CODE 6717-01-P